DEPARTMENT OF AGRICULTURE

Office of the Chief Economist; Membership on the Federal Advisory Committee for the Expert Review of Synthesis and Assessment Product 4.3

AGENCY: Office of the Chief Economist, U.S. Department of Agriculture.

ACTION: Notice of Advisory Committee Membership.

SUMMARY: Notice if hereby given of membership on the Federal Advisory Committee for the Expert Review of Synthesis and Assessment Product 4.3 (CERSAP). The U.S. Department of Agriculture (USDA) is the lead agency for Climate Change Science Program Synthesis and Assessment Product 4.3 (SAP 4.3) titled, The Effects of Climate Change on Agriculture, Land Resources, Water Resources, and Biodiversity. CERSAP will provide advice to the Secretary of Agriculture on the conduct of this study. The members of CERSAP have been designated by Secretary Mike Johanns to provide advice regarding the conduct of SAP 4.3.

DATES: CERSAP members will serve until the suspension of the CERSAP charter, upon final publication of SAP 4.3.

ADDRESSES: Dr. William Hohenstein, Global Change Program Office, U.S. Department of Agriculture, 202-720-6698 or whohenst@oce.usda.gov.

FOR FURTHER INFORMATION CONTACT: Dr. William Hohenstein, Global Change Program Office, U.S. Department of Agriculture, 202-720-6698 or whohenst@oce.usda.gov.

SUPPLEMENTARY INFORMATION: CERSAP members and their affiliations are listed below:

J. Roy Black, PhD, Professor, Department of Agricultural Economics, Michigan State University.

David Breshears, PhD, Professor, School of Natural Resources, University of Arizona.

Glenn Guntenspergen, PhD, Scientist, U.S. Geological Survey.

Brian Helmuth, PhD, Associate Professor, Department of Biological Sciences, University of South Carolina.

Thomas Lovejoy, Ph.D. (CERSAP Chair), President, The H. John Heinz III Center for Science, Economics, and the Environment.

Frank Mitloehner, Ph.D., Air Quality Extension Specialist, Department of Animal Science, University of California, Davis.

Harold Mooney, Ph.D., Professor, Department of Biological Sciences, Stanford University.

Dennis Ojima, Ph.D., Senior Scholar, The H. John Heinz III Center for Science, Economics, and the Environment.

Charles Rice, Ph.D., Professor, Department of Agronomy, Kansas State University.

William Salas, Ph.D., President and Chief Scientist, Applied Geosolutions, LLC.

William Sommers, Ph.D., Research Faculty, Center for Earth Observing and Space Research, George Mason University.

Soroosh Sorooshian, Ph.D., Distinguished Professor, Department of Civil Engineering, University of California, Irvine.

Eugene Takle, Ph.D., Professor, Department of Geological and Atmospheric Science, Department of Agronomy, Iowa State University.

Carol Wessman, Ph.D., Professor, Cooperative Institute for Research in Environmental Sciences, Department of Ecology and Evolutionary Biology, University of Colorado.

CERSAP will provide expert peer review to SAP 4.3. CERSAP will generate a list of comments and suggestions to increase the merit of SAP 4.3. After SAP 4.3's authors have responded to those comments, CERSAP will review those responses to ensure that their review comments have been adequately considered and addressed. The duties of the CERSAP are solely advisory in nature.

Keith Collins,
Chief Economist.

[FR Doc. 07-2788 Filed 6-5-07; 8:45 am]

BILLING CODE 3410-19-M